SECURITIES AND EXCHANGE COMMISSION

Sunshine Act; Meetings

Notice is hereby given, pursuant to the provisions of the Government in the Sunshine Act, Pub. L. 94-409, that the Securities and Exchange Commission will hold the following meetings during the week of March 8, 2004:

A closed meeting will be held on Tuesday, March 9, 2004 at 2 p.m. and an open meeting will be held on Thursday, March 11, 2004 at 10 a.m., in Room 1C30, the William O. Douglas Room.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c) (5), (6), (7), (9), and (10) and 17 CFR 200.402(a) (5), (6), (7), 9(ii), and (10), permit consideration of the scheduled matters at the closed meeting.

Commissioner Goldschmid, as duty officer, voted to consider the items listed for the closed meeting in closed session.

The subject matter of the closed meeting scheduled for Tuesday, March 9, 2004 will be:

Formal orders of investigation;

Institution and settlement of administrative proceedings of an enforcement nature;

Settlement of an administrative proceeding;

Institution and settlement of injunctive actions; and

A litigation matter.

The subject matter of the open meeting scheduled for Thursday, March 11, 2004 will be:

1. The Commission will consider whether to propose amendments to Form 20-F that would allow an eligible foreign private issuer that adopts International Financial Reporting Standards (“IFRS”) as its basis of accounting for the first time for any financial year beginning no later than January 1, 2007 to file two years, rather than three years, of financial statements in a registration statement or annual report filed for the year in which it first adopts IFRS, with appropriate related disclosure. In addition, the amendments would require all first-time adopters of IFRS to include certain information.

For further information please contact Michael Coco, Division of Corporation Finance, at (202) 942-2990.

2. The Commission will consider whether to adopt amendments to Form 8-K under the Securities Exchange Act of 1934 to add several new disclosure items, amend certain of the existing Form 8-K disclosure items and shorten the Form 8-K filing deadline. The amendments further the goals of Section 409 of the Sarbanes-Oxley Act of 2002 which requires public companies to disclose “on a rapid and current basis” material information regarding changes in their financial condition or operations as the Commission, by rule, determines to be necessary or useful for the protection of investors and in the public interest.

For further information, please contact Raymond Be or Julie A. Bell, Division of Corporation Finance, at (202) 942-2910 or (202) 942-2906, respectively.

3. The Commission will consider whether to propose amendments to Forms N-1A, N-2, and N-3 under the Securities Act of 1933 and the Investment Company Act of 1940, and amendments to Form N-CSR under the Investment Company Act of 1940 and the Securities Exchange Act of 1934, regarding the disclosure provided by registered management investment companies about their portfolio managers. The proposals would extend the existing requirement that a registered management investment company provide basic information in its prospectus regarding its portfolio managers to members of management teams. The proposals would also require a registered management investment company to disclose additional information about its portfolio managers in its Statement of Additional Information, including other investment companies and accounts they manage, compensation structure, and securities ownership in investment companies and accounts they manage.

For further information, please contact Sanjay Lamba at (202) 942-7926.

At times, changes in Commission priorities require alterations in the scheduling of meeting items. For further information and to ascertain what, if any, matters have been added, deleted or postponed, please contact:

The Office of the Secretary at (202) 942-7070.

Dated: March 2, 2004.
Jonathan G. Katz,
Secretary.

[FR Doc. 04-5021 Filed 3-2-04; 2:11 pm]

BILLING CODE 8010-01-P